DEPARTMENT OF COMMERCE

International Trade Administration

[C-469-818]

Ripe Olives From Spain: Postponement of Preliminary Determination in the Countervailing Duty Investigation

AGENCY: Enforcement and Compliance, International Trade Administration, U.S. Department of Commerce.

DATES: August 30, 2017.

FOR FURTHER INFORMATION CONTACT: Mary Kolberg at (202) 482-1785, AD/CVD Operations, Office I, Enforcement and Compliance, International Trade Administration, U.S. Department of Commerce, 1401 Constitution Avenue NW., Washington, DC 20230.

SUPPLEMENTARY INFORMATION:

Background

On July 12, 2017, the Department of Commerce (Department) initiated a countervailing duty investigation on ripe olives from Spain.¹ Currently, the preliminary determination is due no later than September 15, 2017.

¹ See Ripe Olives from Spain: Initiation of Countervailing Duty Investigation, 82 FR 33050 (July 19, 2017).

Postponement of the Preliminary Determination

Section 703(b)(1) of the Tariff Act of 1930, as amended (the Act), requires the Department to issue the preliminary determination in a countervailing duty investigation within 65 days after the date on which the Department initiated the investigation. However, section 703(c)(1) of the Act permits the Department to postpone the preliminary determination until no later than 130 days after the date on which the Department initiated the investigation if: (A) The petitioner ² makes a timely request for a postponement; or (B) the Department concludes that the parties concerned are cooperating, that the investigation is extraordinarily complicated, and that additional time is necessary to make a preliminary determination. Under 19 CFR 351.205(e), the petitioner must submit a request for postponement 25 days or more before the scheduled date of the preliminary determination and must state the reasons for the request. The Department will grant the request unless it finds compelling reasons to deny the request.

² In this investigation, the petitioner is the Coalition for Fair Trade in Ripe Olives and its individual members, Bell-Carter Foods, Inc. and Musco Family Olive Co.

On August 7, 2017, the petitioner submitted a timely request that we postpone the preliminary CVD determination.³ The petitioner stated that it requests postponement because the Department continues to gather “questionnaire responses from the Government of Spain, the European Union, and the mandatory respondents in this investigation. Thus, extra time is needed to permit the Department . . . to analyze fully the questionnaire responses, request any necessary clarifications, and determine the extent to which countervailable subsidies have been bestowed on the respondents.” ⁴ In accordance with 19 CFR 351.205(e), the petitioner has stated the reasons for requesting a postponement of the preliminary determination, and the Department finds no compelling reason to deny the request. Therefore, pursuant to section 703(c)(1)(A) of the Act, we are extending the due date for the preliminary determination to no later than 130 days after the date on which this investigation was initiated, i.e., to November 20, 2017.⁵ Pursuant to section 705(a)(1) of the Act and 19 CFR 351.210(b)(1), the deadline for the final determination will continue to be 75 days after the date of the preliminary determination.

³ See Letter from the petitioner, “Ripe Olives from Spain—Request for Postponement of Preliminary Determination” (August 7, 2017).

⁴ Id.

⁵ The 130th day falls on Sunday, November 19, 2017. The Department's practice dictates that where a deadline falls on a weekend or federal holiday, the appropriate deadline is the next business day. See Notice of Clarification: Application of “Next Business Day” Rule for Administrative Determination Deadlines Pursuant to the Tariff Act of 1930, As Amended, 70 FR 24533 (May 10, 2005). Therefore, the deadline for the preliminary determination is November 20, 2017.

This notice is issued and published pursuant to section 703(c)(2) of the Act and 19 CFR 351.205(f)(l).

Dated: August 24, 2017.
Gary Taverman,
Deputy Assistant Secretary for Antidumping and Countervailing Duty Operations, performing the non-exclusive functions and duties of the Assistant Secretary for Enforcement and Compliance.

[FR Doc. 2017-18430 Filed 8-29-17; 8:45 am]

BILLING CODE 3510-DS-P